DEPARTMENT OF COMMERCE

National Oceanic and Atmospheric Administration

50 CFR Part 679

[Docket No. 010112013-1168-06; I.D. 011101B]

RIN 0648-A082

Fisheries of the Exclusive Economic Zone Off Alaska; Steller Sea Lion Protection Measures and 2001 Harvest Specifications and Associated Management Measures for the Groundfish Fisheries off Alaska; Correction

AGENCY: National Marine Fisheries Service (NMFS), National Oceanic and Atmospheric Administration (NOAA), Commerce.

ACTION: Emergency interim rule; correction.

SUMMARY: This document corrects the July 17, 2001, emergency interim rule and its August 22, 2001, correction by correcting Steller sea lion protection areas for the Pacific cod directed fishery, to clarify closure areas to Tables 22, 23, and 24 to part 679 and by correcting the corresponding regulatory text to be consistent with the changes to the tables.

DATES: Effective September 18, 2001, through December 31, 2001.

FOR FURTHER INFORMATION CONTACT: Melanie Brown, NMFS, 907-586-7228 or e-mail at melanie.brown@noaa.gov.

SUPPLEMENTARY INFORMATION: The emergency interim rule published July 17, 2001 (66 FR 37167), and corrected August 22, 2001 (66 FR 44073), implements Steller sea lion protection measures and announces final 2001 harvest specifications for the groundfish fisheries of the Bering Sea and Aleutian Islands Area and the Gulf of Alaska. As published and corrected, the final regulations contain errors.

In Table 22, in column 8, the column heading was incomplete in the August 22, 2001, Federal Register correction. This correction includes the additional language regarding vessels less than 60 ft (18.3 m). Footnote 7 to Table 22 is corrected to clarify the no fishing zones.

Tables 22 and 23 have footnotes added to Sutwik Island and Kodiak/Cape Ugat sites to clarify the extent of the no pollock and Pacific cod trawl fishing zones around these sites. The 20-nautical miles (nm) arcs were incorrectly extended into the Shelikof foraging area. The North Pacific Fishery Management Council (Council) and NMFS did not intend the closures around these areas to enter the open area of the Shelikof foraging area.

Consistent with the Council intent and NMFS’ action, the closure is within 10 nautical miles around rookeries in the Aleutian Islands to Pacific cod trawling, except for the 20-nm closures around the Agligadak and Buldir rookeries for all Pacific cod fishing. All Pacific cod non-trawl vessels may fish outside 3 nautical miles in critical habitat around remaining rookeries and haulouts in the Aleutian Islands. Table 23 in the emergency interim rule, which erroneously shows all Pacific cod fishing closed to either 10 nautical miles or 20 nautical miles around Adak Island, Kasatochi Island, Seguam Island/Saddleridge Point, and Yunaska Island rookeries, is corrected to show all these rookeries with 10-nm Pacific cod trawling closures. Because the closures at these rookeries apply only to trawling, the exemptions (designated by a “Y”) shown in column 10 of Table 23 for vessels less than 60 ft (18.3 m) using non-trawl gear are removed.

In addition, column 9 of Table 23 is removed, and columns 10 and 11 are redesignated as columns 9 and 10, respectively, to eliminate redundant closure designations. All sites listed with closures in column 9 of the August 22, 2001, Table 23 are rookeries. All rookeries that are listed in Table 21 of the regulatory text have no groundfish fishing zones, which make fishery specific closures from 0 nautical miles to 3 nautical miles unnecessary.

Footnotes 5 and 8 to Table 23 of the regulations are revised, respectively, to correspond with the corrections. Regulatory text in 50 CFR 679.22 (a)(12), (a)(13), and (b)(7)(ii)(B) is also corrected to reflect the corrections made to Table 23. Footnote 7 to Table 23 is corrected to clarify the no fishing zone.

The footnotes to Table 24 of the regulatory text are also corrected by designating § 679.22(a)(12) to correspond with the corrections to Table 23. Footnote 4 to Table 24 is corrected to clarify the no fishing zone.

Correction

Accordingly, the emergency interim rule published on July 17, 2001 (66 FR 37167, FR Doc. 01-17850), and its correction published August 22, 2001 (66 FR 44073, FR Doc. 01-21205), are corrected as follows.

§ 679.22 [Corrected]

1. In the emergency interim rule published July 17, 2001, 66 FR 37167, the following corrections are made to § 679.22:

a. On page 37180, in the second column, amendatory instruction 5, in the fourth line, “(a)(12)(iv) through (viii)” is corrected to read “(a)(12)(iv) through (vii).”

b. On page 37180, column 3, and on page 37181, column 1, paragraph (a)(12)(vii) is removed;

c. On page 37181, column 1, paragraph (a)(12)(viii) is correctly redesignated as paragraph (a)(12)(vii);

d. On page 37181, column 1, paragraph (a)(13)(iii)(C) is corrected to read as follows:

(a) * * *

(13) * * *

(iii) * * *

“(C) All pot vessels are exempt from Pacific cod no fishing zones for selected sites. These sites are listed in Table 23 to this part and identifiable by a “Bering Sea” in column 2 and by a “Y” in column 10.”

* * * * *

e. On page 37181, column 3, paragraph (b)(7)(ii)(B) is corrected to read as follows:

(b) * * *

(7) * * *

(ii) * * *

(B) All vessels less than 60 ft (18.3 m) LOA using non-trawl gear are exempt from the fishing prohibitions of paragraph (b)(3)(i)(B) of this section and from Pacific cod no fishing zones for selected sites. These sites are listed in Table 23 of this part and identifiable by a “Gulf of Alaska” in column 2 and a “Y” in column 9.

* * * * *

Tables 22, 23, and 24 to 50 CFR part 679 [Corrected]

2. In the correction of the emergency interim rule published August 22, 2001 (66 FR 44073, FR Doc. 01-21205), Tables 22, 23, and 24 to 50 CFR part 679, beginning on pages 44079, 44081, and 44084, respectively, are correctly revised to read as follows:

BILLING CODE 3510-22-S

Authority: 16 U.S.C 1801 et seq.

Dated: September 12, 2001.
William T. Hogarth,
Assistant Administrator for Fisheries, National Marine Fisheries Service.

[FR Doc. 01-23229 Filed 9-18-01; 9:35 am]

BILLING CODE 3510-22-C